DEPARTMENT OF ENERGY

Federal Energy Regulatory Commission

[Docket No. RP98-53-024]

Kinder Morgan Interstate Gas Transmission L.L.C., et al.; Notice of Offer of Settlement

February 8, 2002.

Take notice that on January 24, 2002, Kinder Morgan Interstate Gas Transmission L.L.C. (KMIGT), on behalf of itself and Signatory Parties,¹ filed an Offer of Settlement (Settlement) under Rule 602 of the Commission's Rules of Practice and Procedure in the captioned docket. The Settlement is designed to: (1) Extinguish the liability of all working interest owners whose aggregate total liability (principle and interest) as of September 30, 2001 is $80,000 or less; (2) establish the liabilities of the remaining 30 working interest owners, and then reduce such liabilities by the greater of $80,000 or 25%; and (3) extinguish the liability of royalty owners to working interest owners participating in the settlement for refunds of ad valorem taxes, due to the Commission's implementation of the decision of the United States Court of Appeals for the District of Columbia Circuit in Public Service Company of Colorado.² A copy of the Settlement is on file with the Commission and is available for public inspection in the Public Reference Room. The Settlement may be viewed on the web at http://www.ferc.fed.us/online/rims.htm (call 202-208-2222 for assistance).

¹ Other than KMIGT, Signatory Parties include Amoco Production Company, Anadarko Petroleum Corporation, George A. Angle d/b/a Frontier Oil Company, Atlantic Richfield Company, Benson Mineral Group, Inc., Beren Corporation and associated working interests, Chevron U.S.A. Inc., Dominion Oklahoma Texas Exploration and Production, Inc., Eastman Dillon Oil & Gas Associates, Ensign Operating Company, Finney-Kearney County Gas Venture, Russell Freeman, Graham-Michaelis Corporation, Griggs Oil Inc., Hallador Petroleum Company, Helmerich & Payne Inc., Hummon Corporation, IBEX Partnership, Ltd., IMC Global, Inc., Kaiser-Francis Oil Company, The Kansas Corporation Commission, Kansas Natural Gas, Inc., Kansas Petroleum, Inc., Kinder Morgan, Inc., D. R. Lauck Oil Company, John P. Lockridge, John P. Lockridge Operator, Inc. and related working interests, Midwest Energy, Inc., Mobil Oil Corporation, Mountain Petroleum Corporation, Northwestern Public Service, a Division of NorthWestern Corporation, OXY USA Inc., Pickrell Drilling Company, Inc., Pioneer Natural Resources USA, Inc., Public Service Company of Colorado, Reliant Energy Minnegasco, a Division of Reliant Energy Resources Corporation, RME Petroleum Corporation, Wanda Smith, Texas Exploration and Production Inc., UtiliCorp United, Inc., Westgate Greenland, L.P., and Williams Production RMT Company.

² Public Service Co. of Colorado, et al., 80 FERC ¶ 61,264 (1997), reh'g denied, 82 FERC ¶ 61,058 (1998). Appeal pending. Anadarko Petroleum Corporation v. FERC, Case No. 98-1227 et al.

The Settlement is structured as an agreement among all working interest owners, regardless of their status as a Signatory Party. The Settlement provides the opportunity for every working interest owner to affirmatively opt-out of the settlement, with KMIGT and other parties, including the Commission, retaining the right to pursue any claims against those working interest owners which elect not to accept the terms of the settlement, or to defend against any claims by such working interest owners with respect to Kansas ad valorem taxes.

In accordance with section 385.602(f), initial comments are due by February 13, 2002, and any reply comments are due by February 25, 2002.

Magalie R. Salas,
Secretary.

[FR Doc. 02-3646 Filed 2-13-02; 8:45 am]

BILLING CODE 6717-01-P